DEPARTMENT OF VETERANS AFFAIRS

[OMB Control No. 2900-0422]

Agency Information Collection Activity: VAAR Construction Provisions and Clauses

AGENCY: Office of Acquisition and Logistics, Department of Veterans Affairs.

ACTION: Notice.

SUMMARY: In compliance with the Paperwork Reduction Act (PRA) of 1995, this notice announces that the Office of Acquisition and Logistics (OAL), Department of Veterans Affairs (VA), will submit the collection of information abstracted below to the Office of Management and Budget (OMB) for review and comment. The PRA submission describes the nature of the information and its expected cost and burden, and it includes the actual data collection instrument.

DATES: Comments and recommendations on the proposed information collection should be sent by December 22, 2025.

ADDRESSES: To submit comments and recommendations for the proposed information collection, please type the following link into your browser: www.reginfo.gov/public/do/PRAMain, select “Currently under Review—Open for Public Comments”, then search the list for the information collection by Title or “OMB Control No. 2900-0422.”

FOR FURTHER INFORMATION CONTACT: VA PRA information: Dorothy Glasgow, 202-461-1084, VAPRA@va.gov.

SUPPLEMENTARY INFORMATION:

Title: VAAR Construction Provisions and Clauses.

OMB Control Number: 2900-0422. https://www.reginfo.gov/public/do/PRASearch.

Type of Review: Extension without change of a currently approved collection.

Abstract: This Paperwork Reduction Act (PRA) submission seeks renewal without changes of OMB approval No. 2900-0422 for five collections of information for the Department of Veterans Affairs Acquisition Regulation (VAAR) clauses, as follows:

• Clause 852.232-70, Payment Under Fixed-Price Construction Contracts (without NAS-CPM), requires construction contractors not using Network Analysis System-Critical Path Method (NAS-CPM), to submit a schedule of costs for work to be performed under the contract.

• Clause 852.232-71, Payment Under Fixed-Price Construction Contracts (including NAS-CPM), requires construction contractors using NAS-CPM, to submit a schedule of costs for work to be performed under the contract.

• Clause 852.236-72, Performance of Work by the Contractor, requires contractors awarded a construction contract containing Federal Acquisition Regulation clause 52.236-1, Performance of Work by the Contractor, to submit a statement designating the branch or branches of contract work to be performed by the contractor's own forces.

• Clause 852.236-80, Subcontracts and Work Coordination, requires construction contractors, on contracts involving complex mechanical-electrical work, to furnish coordination drawings showing the manner in which utility lines will fit into available space and relate to each other and to the existing building elements.

• Clause 852.243-70, Construction Contract Changes-Supplement, requires contractors to submit cost proposals for changes ordered by the contracting officer or for changes proposed by the contractor.

An agency may not conduct or sponsor, and a person is not required to respond to a collection of information unless it displays a currently valid OMB control number. The Federal Register Notice with a 60-day comment period soliciting comments this collection of information was published at 90 FR 44907, September 17, 2025.

Affected Public: Business or other for-profit.

Estimated Annual Burden: 2,974 hours.

Estimated Average Burden per Respondent: 105 minutes.

Frequency of Response: More than quarterly.

Estimated Number of Respondents: 1,706.

Authority: 44 U.S.C. 3501 et seq.

Dorothy Glasgow,
Acting, VA PRA Clearance Officer, Office of Information Technology, Data Governance Analytics Department of Veterans Affairs.

[FR Doc. 2025-20438 Filed 11-19-25; 8:45 am]

BILLING CODE 8320-01-P